DEPARTMENT OF DEFENSE

Department of the Navy

Notice of Intent to Prepare a Programmatic Environmental Impact Statement for Development of Ford Island at Pearl Harbor, Hawaii

AGENCY: Department of the Navy, DOD.

ACTION: Notice.

SUMMARY: Pursuant to section 102(2)(c) of the National Environmental Policy Act of 1969 (NEPA), as implemented by the Council on Environmental Quality regulations (40 CFR parts 1500-1508), the Department of the Navy (DON) announces its intent to prepare a Programmatic Environmental Impact Statement (PEIS) for the development of Ford Island at Pearl Harbor, Hawaii in order to provide needed facilities and services and deliver overall benefits to the DON at the Pearl Harbor Naval Complex. This announcement also serves as notice that public scoping meetings will be held to solicit comments in accordance with NEPA, and request input as part of the Section 106 process of the National Historic Preservation Act (NHPA) of 1966, as implemented by the Advisory Council on Historic Preservation (ACHP) regulations (36 CFR part 800). The PEIS will also address the potential impacts of the sale or lease of DON property on Oahu, as authorized by 10 USC 2814 “Special authority for the development of Ford Island, Hawaii” and 10 U.S.C. 2871 et seq. “Alternate Authority for the Acquisition and Improvement of Military Housing.”

DATES: Two public scoping meetings will be held to receive oral and written comments on the scope of the PEIS and public input relative to historic resources. The first meeting will be held on May 2, 2000, at 7 p.m. in the Washington Middle School, 1633 South King Street, Honolulu, Hawaii. The second meeting will be held on May 4, 2000, at 7 p.m. in the Makalapa Elementary School, 4435 Salt Lake Boulevard, Honolulu, Hawaii.

FOR FURTHER INFORMATION CONTACT: Mr. Stanley Uehara (Code PLN231), Pacific Division, Naval Facilities Engineering Command, 258 Makalapa Drive, STE 100, Pearl Harbor, Hawaii 96860-3134; telephone (808) 471-9338; fax (808) 474-5909; e-mail UeharaSY@efdpac.navfac.navy.mil.

SUPPLEMENTARY INFORMATION: The proposed action is to develop Ford Island to provide needed facilities and services and deliver overall benefits to the Department of the Navy (DON) at the Pearl Harbor Naval Complex. Ford Island is a central feature in the Pearl Harbor National Historic Landmark. The PEIS will also address the potential impacts of the sale or lease of Navy property on Oahu to fund the development on Ford Island, as authorized by 10 U.S.C. 2814 “Special authority for the development of Ford Island, Hawaii” (hereafter referred to as “Ford Island legislation”) and 10 U.S.C. 2871 et seq. “Alternate Authority for the Acquisition and Improvement of Military Housing” (hereafter referred to as the Military Housing Privatization Initiative (MFPI) legislation). The Ford Island legislation allows DON to sell or lease properties in Hawaii and use the proceeds to develop Ford Island. The MHPI legislation allows DON to sell or lease properties and use the proceeds to invest in public-private ventures to provide military housing. Properties available for potential sale or lease include: DON property at the Waikele Branch of Naval Magazine Lualualei; the golf course, family housing, and related property at the former Naval Air Station Barbers Point; family housing and related property at Iroquois Point/Puuloa; property on Pearl Harbor mainside; and property on Ford Island. In addition to the Ford Island and MHPI legislation, other existing authorities could be used such as construction using traditional Military Construction or Non-appropriated Funds.

Due to the variety of actions envisioned for Ford Island, a PEIS is appropriate to provide an overview analysis of the affected environment and the potential cumulative impacts of reasonably foreseeable actions. Additional NEPA documentation may subsequently be required as specific projects are identified to meet the development objectives. The DON is considering adaptive reuse of existing structures on Ford Island and new construction to meet such facility requirements as: administrative and operational facilities, family and bachelor housing, transient lodging, support and commercial services, and infrastructure. Development could include filling some tidelands to construct a breakwater and/or marina. In addition to these requirements, approximately 75 acres on Ford Island could be made available for compatible commercial ventures. The purpose of developing Ford Island is to allow the DON to centralize operations for overall efficiency; to improve the quality of life for service members by improving work and leisure facilities and reducing commuting distances; and to reduce maintenance costs and congestion at mainside by replacing antiquated and obsolete facilities. Development of some portions of Ford Island is constrained by existing facilities, historic resources, and operational requirements.

Alternatives to be considered in the PEIS will be potential land development options comprising various levels of land-use for Ford Island that are consistent with the development objectives. The DON will solicit input from private sector developers through a Request for Expressions of Interest in order to obtain their expertise in developing land-use alternatives. Any reasonable alternatives to DON's land-use concept will be considered, as will comments received from federal and state agencies, non-governmental organizations and the public during the scoping process.

The PEIS will evaluate the environmental effects associated with alternatives developed through the Request for Expressions of Interest and during the scoping process. Issues to be addressed include, but are not limited to: cultural and historic resources and impacts on the adjacent USS Missouri and USS Arizona Memorial; biological resources and habitat as may be impacted by in-water construction; water resources and hydrology; soils and geology; public services and utilities; traffic and noise; public health and safety; hazardous materials and wastes; and environmental justice. The analysis will include an evaluation of the direct, indirect, short-term, and cumulative impacts. No decision to implement any alternative, including the No-Action Alternative, will be made until the NEPA process is complete.

The DON will conduct two public scoping meetings to identify potentially significant issues, and to notify interested and affected parties of the PEIS process. A brief presentation describing the proposed action, historic resources related to the Pearl Harbor National Historic Landmark, and the NEPA process will precede the public's opportunity to comment relating to the scope of the PEIS. The purposes and format of the meetings are provided to invite public input on historic resource issues as part of the Section 106 process of the National Historic Preservation Act, as well as public involvement requirements specified under NEPA. It is important that interested federal, state, and local agencies, organizations and individuals take this opportunity to identify environmental and other related concerns that they believe should be addressed during preparation of the PEIS.

To allow time for all views to be shared, speakers will be asked to limit their oral comments to three minutes. Agencies and the public are invited to provide written comments in addition to, or in lieu of, oral comments at the public meetings. Scoping comments should clearly describe specific issues or topics that the commentor believes the PEIS should address and those that the NHPA process should address. Written comments are to be filed with Mr. Stanley Uehara (Code PLN231), Pacific Division, Naval Facilities Engineering Command, 258 Makalapa Drive, STE 100, Pearl Harbor, Hawaii, and must be postmarked no later than May 15, 2000.

Dated: April 7, 2000.
J.L. Roth,
Lieutenant Commander, Judge Advocate General's Corps, U.S. Navy, Federal Register Liaison Officer.

[FR Doc. 00-9369 Filed 4-13-00; 8:45 am]

BILLING CODE 3810-FF-P